DEPARTMENT OF COMMERCE

National Oceanic and Atmospheric Administration

Notice of Availability for Public Comment on the Interagency Ocean Observation; Committee Proposed Certification Design Process

AGENCY: National Ocean Service (NOS), National Oceanic and Atmospheric Administration (NOAA), U.S. Department of Commerce (DOC).

ACTION: Notice of availability; request for comments.

SUMMARY: The NOAA Integrated Ocean Observing System (IOOS) Program publishes this notice on behalf of the Interagency Ocean Observation Committee (IOOC) to announce a 60-day public comment period for the proposed certification design process mandated by the Integrated Coastal and Ocean Observation System Act of 2009 (ICOOS Act). The IOOC will use the proposed process to develop certification standards for non-federal assets, including regional information coordination entities, to establish eligibility for integration into the Integrated Ocean Observing System (System).

DATES: Written, faxed or e-mailed comments must be received no later than 5 p.m. eastern standard time on November 15, 2010.

ADDRESSES: The IOOC proposed certification design process and additional background material is available for review from the IOOC Web site URL: http://www.iooc.us or the IOOS Program Web site URL: http://www.ioos.gov. For the public unable to access the Internet, printed copies can be requested by contacting the IOOC Support Office at the address below. The public is encouraged to submit comments electronically to certification@iooc.us. If you are unable to access the Internet, comments may be submitted via fax or regular mail. Faxed comments should be sent to 202-332-8887 with Attn: IOOC Support Office. Comments may be submitted in writing to the Consortium for Ocean Leadership, Attention: IOOC Support Office, 1201 New York Avenue, NW., 4th Floor, Washington, DC 20005.

FOR FURTHER INFORMATION CONTACT: For further information about this notice, please contact the IOOC Support Office, telephone: 202-787-1622; E-mail: certification@iooc.us or the IOOS Program Office, telephone 301-427-2442.

SUPPLEMENTARY INFORMATION: On 30 March 2009, President Barack Obama signed into law the Integrated Coastal and Ocean Observation System Act of 2009. Among the requirements in the Act is a directive to the IOOC to develop contract certification standards and compliance procedures for all non-Federal assets, including regional information coordination entities, to establish eligibility for integration into the System and to ensure compliance with all applicable standards and protocols established and to ensure that regional observations are integrated into the System on a sustained basis. The IOOC seeks public comment on both the proposed process to create these standards and on the scope and structure of the standards. The proposed certification design process and additional background information are available on the IOOC and IOOS Web sites or by contacting the IOOC Support Office or the IOOS Program Office. The IOOC is the Federal interagency group established in accordance with the ICOOS Act to lead the interagency planning and coordination of ocean observing activities including IOOS. The IOOC is comprised of representatives of eleven Federal agencies. The ICOOS Act identifies NOAA as the lead Federal agency. As defined in the IOOC charter, the purpose of the IOOC is to advise and assist national ocean governance bodies like the Ocean Science and Technology Interagency Policy Committee, called for in the National Ocean Policy, on matters relating to a national, end-to-end ocean observing system.

Dated: October 5, 2010.
David M. Kennedy,
Acting Assistant Administrator for Ocean Service and Coastal Zone Management.

[FR Doc. 2010-26003 Filed 10-14-10; 8:45 am]

BILLING CODE 3510-22-M